DEPARTMENT OF HEALTH AND HUMAN SERVICES

Food and Drug Administration

21 CFR Part 179

[Docket No. 2003F-0088]

Irradiation in the Production, Processing, and Handling of Food; Correction

AGENCY: Food and Drug Administration, HHS.

ACTION: Final rule; correction.

SUMMARY: The Food and Drug Administration (FDA) is correcting a final rule that appeared in the Federal Register of December 23, 2004 (69 FR 76844). The document amended the food additive regulations by establishing a new maximum permitted energy level of x rays for treating food of 7.5 million electron volts provided the x rays are generated from machine sources that use tantalum or gold as the target material, with no change in the maximum permitted dose levels or uses currently permitted by FDA's food additive regulations. The document was published with two errors in the preamble section. This document corrects those errors.

DATES: Effective December 23, 2004.

FOR FURTHER INFORMATION CONTACT: Celeste Johnston, Center for Food Safety and Applied Nutrition (HFS-265), Food and Drug Administration, 5100 Paint Branch Pkwy., College Park, MD 20740-3835, 301-436-1282.

SUPPLEMENTARY INFORMATION: In FR Doc. 04-28043, appearing on page 76844 in the Federal Register of Thursday, December 23, 2004, the following corrections are made:

1. On page 76844, in the second column, under “I. Introduction,” the second sentence is corrected to read: “Since the publication of the notice, IBA Guardion, a division of IBA responsible for this petition, has been sold to PPM Ventures, which subsequently changed the name of this division to Sterigenics International, Inc., 2015 Spring Rd., suite 650, Oak Brook, IL 60523.”

2. On page 76846, in the third column, under “VIII. References,” the citation for reference 2 is corrected to read “Gregoire, O., Cleland, M. R., Mittendorfer, J., et al., “Radiological Safety of Food Irradiation With High Energy X-Rays: Theoretical Expectations and Experimental Evidence,” Radiation Physics and Chemistry, vol. 67, pp. 169-183, 2003.”

Dated: March 18, 2005.
Leslye M. Fraser,
Director, Office of Regulations and Policy, Center for Food Safety and Applied Nutrition.

[FR Doc. 05-6024 Filed 3-25-05; 8:45 am]

BILLING CODE 4160-01-S